DEPARTMENT OF LABOR

Employment and Training Administration

Notice Inviting Proposals for Selected Demonstration Projects for Youth Offenders

AGENCIES: Employment and Training Administration, Department of Labor.

This notice contains all of the necessary information and forms needed to apply for grant funding.

SUMMARY: This notice contains all of the necessary information and forms to apply for grant funding. The U.S. Department of Labor, Employment and Training Administration is authorized to award grants to provide services aimed at youth who are or have been under criminal justice supervision or involved in gangs. Therefore, youth employment and developmental activities funded under this grant will be used for a structured set of activities focused primarily on placing youth offenders, gang members, and at-risk youth ages 14-24 employment into long term (part-time for ages 14-15) at wage levels that will (1) prevent future dependency and/or (2) break the cycle of crime and juvenile delinquency that contributes to recidivism and non-productive activities. The Department of Labor (DOL) has worked with the Office of Juvenile Justice and Delinquency Prevention (OJJDP) in the U.S. Department of Justice (DOJ) in deciding to use these funds for three categories of projects to serve youth offenders. These categories are: I.— Model Community Projects; II.—Education and Training for Youth Offenders Initiative; and III.—Community-Wide Capacity Building Projects.

For Categories I and III, Workforce Investment Boards (WIBs), political subdivisions of the State, and private entities are eligible to receive grant funds under this announcement. Eligible private entities include community development corporations, community action agencies, community-based and faith-based organizations, disability community organizations, public and private colleges and universities, and other qualified private organizations. Private entities include non-profit organizations but do not include for-profit organizations or individuals. For Category II, State or local juvenile justice agencies or juvenile correctional agencies shall be the eligible applicant and should identify one juvenile correctional facility within their state where the project will operate. Applicants can only apply under one of these categories which must be clearly identified on the face sheet of the application. Local workforce investment areas who were awarded grants to administer Youth Offender Demonstration Projects in 1999 are ineligible to apply under this Solicitation.

DATES: The closing date for receipt of applications is February 28, 2001 at 4:00 p.m. Eastern Standard Time (EST) at the address below.

ADDRESSES: Applications must be mailed to Denise Roach, U.S. Department of Labor, Employment and Training Administration, Division of Federal Assistance, 200 Constitution Avenue, NW, Room S-4203, Washington, DC 20210, Reference: SGA/DFA-01-101.

FOR FURTHER INFORMATION CONTACT: Technical questions should be faxed to Denise Roach, Division of Federal Assistance, Fax (202) 693-2879. This is not a toll-free number. All inquiries should include the SGA number SGA/DFA 01-101 and a contact name and phone number. This solicitation will also be published on the Internet on the Employment and Training Administration's web site, to access: 1. http://www.doleta.gov; 2. Click Grant & Contract Applications; 3. Click Competitive Grant Opportunities; 4. Grant Forms. Award notifications will also be published on the web site.

Late Applications

Any application received after the exact date and time specified for receipt at the office designated in this notice will not be considered, unless it is received before awards are made and it: (a) Was sent by registered or certified mail not later than the fifth calendar day before the date specified for receipt of applications e.g., an application submitted in response to a solicitation requiring receipt of applications by the 20th of the month must have been mailed/post-marked by the 15th of the month); or (b) was sent by the U.S. Postal Service Express Mail Next Day Service to the specified address not later than 5:00 P.M. at the place of mailing two working days prior to the date specified for receipt of applications. The term “working days” excludes weekends and federal holidays. The term “post-marked” means a printed, stamped, or otherwise placed impression (exclusive of a postage meter machine impression) that is readily identifiable, without further action, as having been supplied or affixed on the date of mailing by an employee of the U.S. Postal Service.

Hand Delivered Proposals

It is preferred that applications be mailed at least five days prior to the closing date. To be considered for funding, hand-delivered applications must be received by 4:00 P.M. (Eastern Standard Time), on the closing date at the specified address.

Telegraphed and/or faxed applications will not be honored. Failure to adhere to the above instructions will be a basis for a determination of nonresponsiveness. Overnight express mail from carriers other than the U.S. Postal Service will be considered hand-delivered applications and must be received by the above specified date and time.

Review and Selection Process

A careful evaluation of applications will be made by a technical review panel who will evaluate the applications against the established criteria under each Category. The panel results are advisory in nature and are not binding on the Grant Officer. The Government may elect to award the grant with or without discussions with the offeror. In situations without discussion, an award will be based on the offeror's signature on the SF 424. The final decision on awards will be based on what is most advantageous to the Federal Government, taking into account factors such as geographic diversity, mix of Empowerment Zones (EZs) and Enterprise Communities (ECs), and demographic characteristics.

Cost sharing/leveraging funds: Applicants also should discuss their plans to leverage and align with other funds or resources in order to build permanent partnerships for the continuation of services, and should provide some discussion of the nature of these leveraged resources, i.e., Federal, non-Federal, cash or in-kind, State and county, foundation, capital equipment, and other matching funds. For example, the Federal Bonding Program and the Work Opportunity Tax Credit (WOTC) should be considered as potential tools to assist with youth offender employment placements. Information about these programs may be found on ETA's website at http://www.doleta.gov.

Reporting requirements: Applicants must clearly define their procedures for reporting progress on a monthly basis (including data elements listed in SUPPLEMENTARY INFORMATION and for identifying and presenting the results of project interventions. Proposals should also describe in detail the specific reports and other deliverables to be provided to ETA as documentation of progress and results in terms of improved outcomes for the target population. An implementation plan to be submitted within 60 days of the grant execution, monthly reports, an annual report, and a final report summarizing progress are required for projects under this SGA.

SUPPLEMENTARY INFORMATION: Approximately $8,250,000 is available for all three categories. Funding for these awards is authorized under the Workforce Investment Act (WIA). Applicants must clearly identify which category they are applying for. This information must appear on the face sheet of the application. It is strongly recommended that each application be submitted using the face sheet included in appendix “A” because it will greatly enhance the review process.

As a condition for award, all applicants must agree to participate in a separately funded evaluation. Applicants should not set aside funds for evaluation activities. All applicants must provide assurances in their proposals that they will cooperate with the evaluators and provide access to the data necessary to the evaluations. Awardees of the grants further agree to make available upon request to DOL-authorized evaluation contractor(s) data for a period not to exceed 24 months beyond the demonstration period (which should not exceed 24 months) through a no-cost extension of the grants.

The availability of this data beyond the demonstration period will enable, if appropriate, the contractor to perform follow-up analysis. In addition, proposals should specify the linkages between the Youth Offender project and the local WIA Youth Council through the One-Stop delivery system to ensure coordination of workforce development services. These linkages shall include both existing and proposed strategies.

All demonstration sites will be required to collect and maintain participant records through administrative data so that these projects can document results and accomplishments and provide a learning experience for the workforce development system, DOL, and DOJ. These data include:

A. Number recruited;

B. Number enrolled;

C. Number who entered training;

D. Number who entered or reentered secondary school;

E. Number who entered or reentered post-secondary school;

F. Number who entered employment;

G. Number “served by aftercare” programs;

H. Number who entered the military;

I. Number referred to other services such as dropout prevention, drug rehabilitation;

J. Number who entered other job training programs;

K. Number referred to apprenticeship programs;

L. Number of in-school youth served; and

M. Number of out-of-school youth served.

In addition, if applicable, data elements associated with the Workforce Investment Act may be required (to be specified in the grantee's statement of work).

Application Submittal

Applicants must submit four (4) copies of their proposal, with original signatures. There are three required sections of the application: Section I—Project Financial Plan; Section II—Executive Summary; and Section III—Project Narrative (including Appendices, not to exceed thirty pages). Applications that fail to meet the requirements will not be considered. The Project Narrative must be double-spaced, and on single-sided, numbered pages with the exception of format requirements for the Executive Summary. The Executive Summary must be limited to no more than two (2) single-spaced, single-sided pages. A font size of at least twelve (12) pitch is required throughout.

Part I—Project Financial Plan

Section I of the application must include the following two required elements: (1) Standard Form (SF) 424, “Application for Federal Assistance,” (Appendix B) and (2) “Budget Information Form.” (Appendix C) All copies of the SF 424 MUST have original signatures of the legal entity applying for grant funds. Applicants shall indicate on the SF 424 the organization's IRS Status, if applicable.

According to the Lobbying Disclosure Act of 1995, Section 18, an organization described in Section 501(c)4 of the Internal Revenue Code of 1986 which engages in lobbying activities shall not be eligible for the receipt of federal funds constituting an award, grant, or loan. The Catalog of Federal Domestic Assistance (CFDA) number is 17-249. Section I will not count against the application page limits.

The Financial Plan must describe all costs associated with implementing the project that are to be covered with grant funds. In addition, Section I should include a budget narrative/justification which will detail the cost breakout of each line item on the Budget Information Form. This must provide sufficient information to support the reasonableness of the costs included in the budget in relation to the service strategy and planned outcomes. The budget must be for the full duration of the project but may not exceed 30 months. All costs should be necessary and reasonable according to the Federal guidelines set forth in the “Uniform Administrative Requirements for Grants and Cooperative Agreements to State and Local Governments” (also known as the “Common Rule”), codified at 29 CFR Part 97 (97.22) and “Grants and Agreements with Institutes of Higher Education, Hospitals, and Other Non-Profit Organizations” (also known as OMB Circular A-110), codified at 29 CFR Part 95, (95.27).

Part II—Executive Summary (Format Requirements Limited To No More Than Two Single-Spaced, Single-Sided Pages)

Each application shall provide a project synopsis which identifies the following:

• The applicant;

• Identification of consortium partners and the type of organizations they represent;

• The project service area;

• Whether the service area is an entire local workforce investment area, more than one local area, and/or all local areas in a State;

• The specific areas of focus in the announcement which are addressed by the project;

• The planned period of performance;

• The comprehensive strategy (e.g., who will provide services, who will be accountable for the project, etc.) for providing seamless service delivery and for addressing the multi-faceted barriers to training and employment which affect youth who are or who have been under criminal justice supervision or involved in gangs or who are at-risk of involvement;

• How counseling and other support needs will be addressed in the One-Stop delivery system;

• The actions already taken by the State or Local Workforce Investment Board to address the needs of at-risk youth in the One-Stop delivery system;

• The level of commitment the applicant (including all consortium members, if any) and other partners have to serving at-risk youth;

• The linkages between the project and the local WIA Youth Council through the One-Stop delivery system, as well as linkages with the business and education communities and juvenile justice agencies; and

• A written confirmation that the applicant will cooperate with the evaluators.

Part III—Project Narrative (Format Requirements Limited To No More Than Thirty (30) Double-Spaced, Single-Sided, Numbered Pages)

Section III of the application, the project narrative, shall contain the technical proposal that demonstrates the applicant's plan and capabilities in accordance with the evaluation criteria contained in this notice.

Applicants MUST limit the project narrative section to no more than thirty (30) double-spaced and single-sided pages, which include any attachments provided by the applicants. Letters of general support or recommendation for a proposal should NOT be submitted and will count against the page limit. However, letters of commitment are required from partner/consortia organizations and will not count against the page limit.

Background

The Workforce Investment Act (WIA) of 1998 establishes comprehensive reform of existing Federal job training programs with amendments impacting service delivery under the Wagner Peyser Act, Adult Education and Literacy Act, the Rehabilitation Act and supersedes the Job Training Partnership Act (JTPA). WIA provides a framework for a national workforce development system designed to meet both the needs of the nation's businesses and the needs of job seekers who want to further their careers. A number of other Federal programs are also identified as required partners under the One-Stop delivery system with the intention of providing comprehensive services for all Americans to access the information and resources available to them in the development and implementation of their career goals. The intention of the One-Stop delivery system is to establish programs and providers in co-located, coordinated and integrated settings that are coherent and accessible for individuals and businesses alike in approximately 600 workforce investment areas which have been established throughout the nation.

The Workforce Investment Act establishes State and Local Workforce Investment Boards (WIBs) focused on strategic planning, policy development, and oversight of the workforce system with significant authority for the Governor and chief elected officials to build on existing reforms in order to implement innovative and comprehensive One-Stop delivery systems. In addition, Youth Councils, subgroups of the local WIBs, are required to develop parts of the local plan relating to youth, recommend providers of youth services, and coordinate local youth programs and initiatives. With its mandated requirements to form these interdisciplinary Youth Councils and to develop one comprehensive plan for youth services, WIA presents a unique opportunity to change the way workforce investment programs (and other youth development programs as well) are organized and operated to serve youth. WIA and the Youth Councils offer local areas the chance to look at how both in-school and out-of-school youth services are blended and deployed. They provide the framework that local areas can build on in order to realign, enhance, and improve youth services so that they are more closely coordinated, better utilized, and more effective.

In setting aside funds for this Solicitation, Congress noted “the severe problems facing out-of-school youth in communities with high poverty and unemployment and the inter-relatedness of poverty, juvenile crime, child abuse and neglect, school failure, and teen pregnancy.” (These grants are included within the Administration's Youth Violence Prevention initiative.) This SGA provides a unique opportunity for selected workforce investment areas to address the needs of a special youth population—youth offenders, gang members, and at-risk youth ages 14-24 through a WIA consorted effort.

Category I—Model Community Projects

Demonstration projects in this category will be based in heavily impoverished communities in need of comprehensive community-wide approaches to assist youth offenders, gang members, and those at risk of becoming involved in gangs. Grantees will be required to expand services in each of 3 areas: (1) Gang prevention and suppression activities; (2) alternative sentencing for first-time offenders; and (3) after-care and case management for incarcerated youth. In addition, grantees shall provide education and mental health services, employment training, sports and recreation, and community services projects in order to reduce recidivism and procure for the target population long-term employment at livable wage levels. The grantees must place particular emphasis on enhancing existing case management and job placement services for youth on probation or for those who are reentering the community from corrections facilities. These support services should be provided throughout the entire employment search continuum, i.e., from the beginning of the employment search until well after the procurement of employment. The projects also will maintain records of the number of contacts made after placement and the type of support services provided.

The projects also will implement an intensive and comprehensive aftercare system to reduce juvenile recidivism. Aftercare systems should be implemented while youth are still incarcerated to establish community links with faith-based organizations, parents or guardians, schools, training and educational opportunities, parole systems, social contacts and activities, and mentors. The aftercare services planned for those individuals incarcerated must involve the staff and administrators of the juvenile corrections facilities where the youth are institutionalized.

Eligible Applicants

Workforce Investment Boards (WIBs), political subdivisions of the State, and private entities are eligible to receive grant funds under this announcement. Eligible private entities include community development corporations, community action agencies, community-based and faith-based organizations, disability community organizations, public and private colleges and universities, and other qualified private organizations.

Private entities include non-profit organizations but do not include for-profit organizations and individuals. Organizations or areas that operate the Department of Justice's Safe Futures or Comprehensive Community-Wide Approach to Gang Prevention, Intervention, and Suppression demonstrations can also apply through their WIBs.

Entities other than a WIB or a political subdivision of the State must submit an application for competitive grant funds in conjunction with the WIB(s) and its Youth Council for the area in which the project is to operate. The term “in conjunction with” shall mean that the application must include a signed certification by both the applicant and the appropriate WIB(s) indicating that:

1. The applicant has consulted with the appropriate WIB (and its Youth Council) during the development of the application; and

2. The activities proposed in the application are consistent with, and will be coordinated with, the One-Stop delivery system efforts of the WIB(s).

If the applicant is unable to obtain the certification, it will be required to include information describing the efforts which were undertaken to consult with the WIB and its Youth Council and indicating that the WIB was provided, during the proposal solicitation period, a sufficient opportunity to cooperate in the development of the project plan and to review and comment on the application prior to its submission to the Department of Labor. “Sufficient opportunity for WIB review and comment” shall mean at least 30 calendar days. Failure to provide information describing the efforts which were undertaken to consult with WIB(s) will disqualify applicants.

The certification, or evidence of efforts to consult, must be with each WIB in the service area in which the proposed project is to operate. These certifications must be included in the grant application, and will not count against the established page limitations. For the purposes of this portion of the application, evidence of efforts to consult with the WIB must be demonstrated by written documentation, such as registered mail receipt, that attempts were made to share project applications with the WIB in a timely manner. WIB applicants and applicants that provide a signed certification by the applicant and the appropriate WIB(s) will be given preference for award.

Funding Availability

The Department expects to award three (3) grants approximately $1.5 million each under this category.

Performance Period

The period of performance for all grants awarded under this competition, within this category, will be for 30 months from the date the grant is awarded. The first 24 months must be devoted to providing program services to eligible youth as defined in this notice. The final six months will be solely for organizing participant case files, providing the files to the demonstration's evaluator within two months after grant-funded services terminate, and participating in a final site visit interview with the evaluators. The budget submitted for the period of performance must cover the full 30 months.

Program Components

The grant awards must be used to enhance and augment presently existing strategies which serve youth offenders, out-of-school youth, and gang members or those at-risk of becoming gang-involved. In addition to intensifying current systems, the projects also will link with and build upon available community resources such as educational (including special education), support, workforce development (engaging local WIBs/Youth Councils), child care, and transportation services. The projects will use these community resources to accomplish the successful transition of youth to independent living within the community, a reduction in recidivism, and the accomplishment of employment, training, and education goals. In order to address specifically the distinct needs and problems of youth offenders, gang members, and those at-risk of becoming gang-involved who are living in high-poverty localities, the overarching strategy for the model community projects should encompass the following:

Purpose/Need

Applicants should describe the need in the target neighborhood as demonstrated by issues such as severity of gang problems, the number of youth offenders residing in the target community, and the inability for existing services to address the needs of youth offenders and gang members. Applicants should also relate the need to the overall purpose of the planned program components.

Alternative Sentencing/Education

Grantees should describe their plans for expanding alternative sentencing, including enhanced education services for youth offenders. Project case managers and other staff must prepare the target population for sustainable high-quality employment by providing assistance to remain in school, return to school, enroll in GED and high school equivalency classes, or participate in additional alternative education such as long-distance learning programs or on-line courses.

Applicants should describe the educational services that will be offered by the project, with particular attention given to the utilization of existing educational system services and the involvement of the schools in the area. In addition, applicants should describe the overall use of project case managers and other staff in the planned program components that will provide educational services.

Case Management/Support Services

Project case managers must prepare the target population for sustainable high-quality employment by utilizing intensive training and support services, including drug and alcohol treatment, mentoring and tutoring, child care, counseling, and other case management services. Service strategies should also focus on providing assistance to engage in job training, secure employment, fulfill legal restitution obligations, or establish successful independent living. Because this wide range of services should be provided by the proposed partnerships of community organizations, applicants must submit memoranda of understanding (MOUs) with the local WIA partnership and other critical agencies specifying the role of each party in the project. Applicants must describe the intensive training and support services as identified above that will be offered as part of the planned program components, and should detail the role of project case managers in the provision of these training and support services.

Youth Offender and Gang Prevention Advisory Board

In order to institute a holistic approach to assisting the target population, employment, education, criminal justice, and community-based youth programs must be incorporated into the projects. In developing this interrelated system, grant funds shall be used to create a youth offender and gang prevention advisory board that participates in the coordination of all activities and provides input and community support to the project's leadership. The advisory board should be comprised of public and private sector representation, parents, youth members, and graduates of other youth offender programs and will link with the local Youth Council to provide seamless delivery of services and maximize use of available resources. Applicants should describe the planned composition of the advisory board, with particular emphasis upon the process for selecting and seating the representation of the board. The applicant should describe the functions of the board and the process planned to utilize the board in designing the holistic delivery expected under the project. Grantees should also describe their plans for expanding gang prevention and suppression efforts in the target community, including expanded efforts by local law enforcement agencies.

Aftercare: Grant funds should link with existing resources to provide intensive aftercare services for youth offenders transitioning from secure confinement in a juvenile corrections facility to the community. Projects must strategically coordinate community-wide efforts and resources to address reentry issues such as surveillance, supervision, graduated sanctions and incentives, linkages to community support systems (families, peers, schools, employers), transitional housing, and job training and placement activities. Applicants should describe clearly detailed reentry plans for youth offenders scheduled for release to their communities and their capacity to sustain their activities for 2 years after funding is no longer available. Strategies for effective case management services in aftercare programming include:

• Use of a reliable and validated risk assessment and classification instrument for establishing eligibility of the targeted population;

• Individual case planning that incorporates a family and community perspective;

• A mix of intensive surveillance and enhanced service delivery;

• Comprehensive, interagency transition planning that involves all critical stakeholders;

• A balance of incentives and graduated consequences coupled with the imposition of realistic, enforceable conditions;

• Work-related or work-oriented activities such as exposure to the workplace, on-the-job training, work experience, job shadowing, etc.;

• Coordination of resources of juvenile correctional agencies, juvenile courts, juvenile parole agencies, law enforcement agencies, social service providers, and local Workforce Investment Boards; and

• “Soft skills” training, i.e., job behavior and life skills training; self determination and social skills training; conflict resolution and anger management; parenting classes; exposure to post-secondary education opportunities; and community service learning projects.

Partnerships/Linkages: In addition to enhancing already existing services and programs, projects must center any newly developed and implemented activities upon the needs of youth involved, or at risk of becoming involved, with the juvenile justice system and gangs. In order to accomplish this, applicants should use partnerships both (1) to enhance the youth offender programs funded under this grant and (2) to provide complementary programs so as to link services within the target community and provide a diversity of options for all youth offenders within the target area. These partnerships must agree to:

• Implement an education and employment program for youth offenders, gang members, and at-risk youth in the target area, including coordination with the private sector to develop a specified number of career-track jobs for target area youth offenders;

• Establish alternative sentencing and community service options for youth offenders, gang members, and at-risk youth in the target area; and

• Expand gang suppression activities in the target area.

Applicants should outline how they will involve residents, youth, and others of the community in planning and involvement in the effort. Proposals should describe the efforts within the project to utilize existing services and programs, particularly those offered through the WIA One-Stop delivery system and the juvenile justice system. Applicants should describe the efforts to be undertaken to coordinate services with private sector entities, including commitments for private sector jobs. Proposals should describe newly developed and implemented services and how these will enhance and augment presently existing strategies in the community.

Category I rating criteria: Each application under this category will be evaluated against the following rating criteria:

• Need in target neighborhood, as demonstrated by severity of gang problem, the number of youth offenders residing in target community, and the barriers facing existing services to reach youth offenders and gang members (10 points);

• Plan to enhance and augment alternative sentencing, including educational and supportive services and case management; role of project case managers in these delivery strategies; plan for linking with schools for co-enrollment, etc. (20 points);

• Plan for enhancing gang prevention and suppression efforts, and use of a youth offender and gang prevention advisory board to achieve coordination; establishment of creative partnerships with local community grassroots organizations which provide services to the target population (20 points);

• Plan and capacity for conducting intensive comprehensive aftercare for preventing recidivism (20 points);

• Planned or committed level of investments (cost sharing and leveraging of funds) from educational agencies/schools and other public sector, WIA, and private sector partners; employment-related connections with the business community (25 points); and

• Plan to fulfill reporting requirements; and confirmation of cooperation with DOL evaluators (5 points).

Category II—Education and Training for Youth Offenders Initiative

These projects will provide a comprehensive school-to-work education and training curriculum for youth offenders in a juvenile correctional facility and aftercare/reentry services, with an emphasis on job placement and retention, upon a youth's return to his or her community. The comprehensive school-to-work education and training services developed under this initiative will serve as a model for other juvenile correctional facilities across the nation.

Eligible Applicants

State or local juvenile justice agencies or juvenile correctional agencies shall be the eligible applicant and should identify one juvenile correctional facility within their state where the project will operate. Applications must show the involvement/commitment of the following partners: the state/local Workforce Investment Board which is the administrative entity of WIA; the local Youth Councils; the state and local school-to-work partnership to which a majority of the youth offenders will return; and representatives of major employer networks connected to the school-to-work effort.

Funding Availability

The Department expects to award one (1) grant of approximately $2 million under this category.

Performance Period

The period of performance for the grant awarded under this competition, within this category, will be for 30 months from the date the grant is awarded. The first 24 months must be devoted to providing program services to eligible youth as defined in this notice. The final 6 months will be solely for organizing participant case files, providing the files to the demonstration's evaluator within two months after grant-funded services terminate, and participating in a final site visit interview with the evaluators. The budget submitted for the period of performance must cover the full 30 months.

Program Components

Grant funds shall be used to enhance an existing system currently serving youth offenders. Programs must be designed to (1) raise the quality of work and learning for incarcerated juvenile offenders through the school-to-work component and (2) strengthen aftercare/reentry services for youth transitioning to their communities following confinement by building connections to local workforce development and school-to-work systems through the aftercare component. Involvement with the local Youth Council of the local WIB is critical to ensuring that this occurs. This overall strategy needs to be responsive to the particular problems of youth offenders and gang members in juvenile correctional facilities, and must include the following:

School-to-work: This component includes the development and/or strengthening of a comprehensive school-to-work curriculum within the juvenile correctional facility, with ties to vocational development and youth employment services funded under WIA. This school-to-work system must contain the following core elements (for additional information, see Attachment I from Evaluation of the School-to-Work-Out-of-School Youth Demonstration and Job Corps Model Centers: Final Report for the Job Corps Model Centers, Research and Evaluation Report Series 00-E, U.S. Department of Labor/Employment and Training Administration, 2000):

• School-based Learning: school-wide classroom instruction based on high academic and business-defined occupational skill standards;

• Work-based Learning: career exploration, work experience, structured training, and mentoring at job sites; and

• Connecting Activities: course integrating classroom and on-the-job instruction, matching students with participating employers, training of mentors, and the building of bridges between school and work.

The jointly developed curriculum should include input from corrections education, the state school-to-work partnership, local school districts and employer networks connected to the school-to-work effort. Projects are also encouraged to work with Job Corps centers in the development of a school-to-work based education curriculum. This curriculum should closely parallel the curriculum developed for the communities to which youth offenders will be returning and structured in such a way as to enable the youth to transition from the institution to the community and continue in a sequential manner with their educational and vocational development.

Aftercare: Grant funds should link with existing resources to provide intensive aftercare services for youth offenders transitioning from secure confinement in a juvenile corrections facility to the community. Aftercare services must strategically coordinate community-wide efforts and resources to address reentry issues such as surveillance, supervision, graduated sanctions and incentives, linkages to community support systems (families, peers, schools, employers), transitional housing, and job training and placement activities. Applicants should describe clearly detailed reentry plans for youth offenders scheduled for release into their communities. Strategies for effective case management services in aftercare programming include:

• Use of a reliable and validated risk assessment and classification instrument for establishing eligibility of the targeted population;

• Comprehensive, interagency transition planning that involves all critical stakeholders;

• Individual case planning that incorporates a family and community perspective;

• A mix of intensive surveillance and enhanced service delivery;

• A balance of incentives and graduated consequences coupled with the imposition of realistic, enforceable conditions;

• Work-related or work-oriented activities such as exposure to the workplace, on-the-job training, work experience, job shadowing, etc.;

• Coordination of resources of local Workforce Investment Boards, juvenile correctional agencies, juvenile courts, juvenile parole agencies, law enforcement agencies, health and social service providers, and community organizations; and

• “Soft skills” training, i.e., job behavior and life skills training; self-determination and social skills training; conflict resolution and anger management; parenting classes; exposure to post-secondary education opportunities; and community service learning projects.

Partnerships/linkages: Applicants should use partnerships to (1) enhance the school-to-work component funded under this grant and (2) provide complementary programs which enable communities to be better able to provide aftercare services for returning youth offenders. The state recipients of a Juvenile Accountability Incentive Block Grant (JAIBG) are strongly encouraged to contribute, in the form of a cash match, 10% of the total program cost, except when the JAIBG funds are used for construction or renovation of permanent correction facilities. Partners under this category should agree to:

• Augment a school-to-work program in one targeted juvenile correctional facility;

• Assist the applicant with the seamless delivery of case management and aftercare services and supervision to youth returning to the community;

• Develop linkages to local school-to-work efforts with assistance from the State school-to-work partnership; and

• Coordinate with the private sector to develop a specified number of career-track jobs for target area youth offenders.

Proposals should specify the linkages between the Youth Offender project and the local WIA Youth Council through the One-Stop delivery system to ensure coordination of workforce development services. These linkages shall include both existing and proposed strategies. Grant funds may be used for staff and teacher training in order to facilitate an effective system of connected classroom-based and work-based activities.

Additional funding sources may include Juvenile Justice and Delinquency Prevention Act formula grant monies and JAIBG funds. The Federal Bonding Program and WOTC should be considered as important tools to assist with youth offender employment placements. Information about these programs is available at ETA's website, http://www.doleta.gov.

Category II Rating Criteria: Each application for funding under this category will be reviewed and rated against the following criteria:

• The stated need in the targeted juvenile correctional facility and state or local juvenile corrections system, as demonstrated by the effectiveness of the current correctional education curriculum and the number of youth who will benefit (20 points);

• Implementation plan for conducting the project, including detailed project scope of the aftercare services to be provided in the community (30 points);

• Planned or committed level of investments of schools, other public sector partners including school-to-work partnerships, and private sector partners with commitments for jobs; employment-related connections to the business community (25 points);

• Planned or committed linkages and coordination of services within the local workforce investment systems (15 points);

• Plan to fulfill reporting requirements (5 points); and

• Confirmation of cooperation with DOL and DOJ evaluators (5 points).

Category III—Community-Wide Capacity Building Projects

This program component will provide smaller grants for impoverished communities within small to medium-sized cities with high crime rates. Grants awarded under this category will create models for use by States and local boards to increase assistance to high-risk youth. These models will build service capacity into the One-Stop delivery system to expand the range and quality of currently existing services designed to prepare high-risk youth for high-quality employment with career development ladders and livable wages. These projects will work with local Youth Councils and service providers to develop linkages that will strengthen the coordination of prevention and recovery services for youth offenders. Linkages to existing community programs such as the WIA year-round youth training and summer jobs for low-income youth, school to work programs, other federal programs, and sports and recreation programs could contribute to juvenile crime prevention.

These grants are to strengthen or build infrastructures that address the needs of this youth population. Providing services to youth is only a means of measuring the effectiveness of the infrastructure. The goal of this category is to develop strategies and integrated service models which will then be implemented. Because of the challenges associated with building strong partnerships leading to comprehensive services, special technical assistance will be made available to successful applicants of this category to assist with their development and implementation processes.

Eligible Applicants

Workforce Investment Boards (WIBs) and private entities located within high-crime communities with a population of at least 100,000 and not greater than 400,000 and a significant youth gang and youth crime problem are eligible to apply. Eligible private entities include community development corporations, community action agencies, community-based and faith-based organizations, disability community organizations, public and private colleges and universities, and other qualified private organizations.

Private entities include non-profit organizations but do not include for-profit organizations and individuals. Applicants should provide documentation from their local law enforcement agency showing support for the existence or emerging gang problem and other serious youth crime problems. WIBs and private entities applying under this category must demonstrate a strong commitment to developing capacity building models which States and local boards will use to serve high-risk individuals under the WIA system.

Entities other than a WIB or a political subdivision of the State must submit an application for competitive grant funds in conjunction with the WIB(s) and its Youth Council for the area in which the project is to operate. The term “in conjunction with” shall mean that the application must include a signed certification by both the applicant and the appropriate WIB(s) indicating that:

1. The applicant has consulted with the appropriate WIB (and its Youth Council) during the development of the application; and

2. The activities proposed in the application are consistent with, and will be coordinated with, the One-Stop delivery system efforts of the WIB(s).

If the applicant is unable to obtain the certification, it will be required to include information describing the efforts which were undertaken to consult with the WIB and its Youth Council and indicating that the WIB was provided, during the proposal solicitation period, a sufficient opportunity to cooperate in the development of the project plan and to review and comment on the application prior to its submission to the Department of Labor. “Sufficient opportunity for WIB review and comment” shall mean at least 30 calendar days. Failure to provide information describing the efforts which were undertaken to consult with WIB(s) will disqualify applicants.

The certification, or evidence of efforts to consult, must be with each WIB in the service area in which the proposed project is to operate. These certifications must be included in the grant application, and will not count against the established page limitations. For the purposes of this portion of the application, evidence of efforts to consult with the WIB must be demonstrated by written documentation, such as registered mail receipt, that attempts were made to share project applications with the WIB in a timely manner. WIB applicants and applicants that provide a signed certification by the applicant and the appropriate WIB(s) will be given preference for award.

Funding Availability

The Department expects to award five (5) grants approximately $350,000 each to Community-Wide Capacity Building Projects under this competition.

Performance Period

The period of performance for all grants awarded under this competition, within this category, will be for 30 months from the date the grant is awarded. The first 24 months must be devoted to strengthening or building infrastructures that address the needs of this youth population, by developing strategies and integrated service models. The final six months will be solely for organizing partnership records for developed strategies and integrated service models, providing the final records to the demonstration's evaluator within two months after grant-funded activities terminate, and participating in a final site visit interview with the evaluators. The budget submitted for the period of performance must cover the full 30 months.

Program Components

In order to develop capacity building models, grant funds shall be used to build upon an existing system currently serving in-school and out-of-school youth, youth offenders, or youth in gangs or prone to joining gangs. Efforts should be made to integrate youth into a full range of educational and alternative programs when appropriate. In order to be responsive to the particular problems of youth offenders, gang members, and those at-risk in high-poverty, high-crime areas, the overall strategy for the capacity building projects should encompass the following:

Career preparation services: The capacity building projects should provide for employment preparation, job placement, and linkages with the workforce development system. Models should focus on programs that train individuals for employment in fields in which technology skills are critical aspects of the jobs emerging in the regional labor market. Training models may also include basic skills and pre-apprenticeship training (as appropriate). Applicants must address the various strategies that their models will employ to actively recruit the target population, and should discuss the projected length of time necessary to determine the efficacy of their models' technical assistance.

Case management/support services: Proposals must demonstrate how the applicants plan to enhance the capacity of the WIA system to assist high-risk youth who are transitioning from dependency to independent living by including innovative service strategies which address their barriers to employment and the flexibility of services available. The framework for the proposed capacity building model should provide for (as applicable): Individual needs assessment; individual service strategies; long-term follow-up services; and linkages with human services, education, and transportation services. Other strategies may include “soft skills” training like job behavior and life skills training, social skills and self-determination, conflict resolution, parenting classes, exposure to post-secondary education opportunities, and service learning projects. Applicants should detail their capacity to sustain these activities for 2 years after funding under this solicitation is no longer available.

Partnerships/Linkages: Applicants should use partnerships both (1) to enhance the currently existing youth offenders programs and WIA services and (2) to provide complementary programs so as to make the target community an available service area for all youth offenders. Applicants should also agree to a good faith effort to continue projects started under this grant beyond the 24-month grant period. Partners should also agree to:

• Build upon existing employment and training, recreation, conflict resolution, and other youth crime and gang prevention programs to include youth offenders and gang members;

• Establish alternative sentencing and community service options for target area youth and gang members;

• Provide work-related or work-oriented activities such as exposure to the workplace, on-the-job training, work experience, job shadowing, etc.

• Establish or continue gang suppression activities within the target area; and

• Build connections to local workforce investment systems, such as linkages with WIBs while demonstrating approaches that ensure that high-risk youth are provided with quality workforce development services.

Youth Offender and Gang Prevention Advisory Board: In order to institute a holistic approach to assisting the target population, employment, education, criminal justice, and community-based youth programs should be incorporated into the projects. In developing this interrelated system, grant funds shall be used to create a youth offender and gang prevention advisory board that participates in the coordination of all activities and provides input and community support to the project's leadership. The advisory board should be comprised of public and private sector representation, parents, youth members, and graduates of other youth offender programs and will link with the local Youth Council to provide seamless delivery of services.

In addition, proposals should specify the linkages between the Youth Offender project and the local WIA Youth Council through the One-Stop delivery system to ensure coordination of workforce development services. These linkages should include both existing and proposed strategies.

Category III rating criteria: Applications received for funding under this category shall be rated against the following criteria:

• Need in target neighborhood, as demonstrated by severity of gang problem and the number of youth offenders residing in the target community, and the inability for existing services to include youth offenders and gang members (10 points);

• Plan to enhance and augment presently existing youth offender programs and youth crime prevention strategies (20 points);

• Plan and capacity for developing and implementing models, including plan for preventing recidivism (30 points);

• Planned or committed level of investments (cost sharing and leveraging of funds) from educational agencies/schools and other public sector, WIA, and private sector partners, including commitments for private sector jobs (15 points);

• Planned or committed linkages and coordination of services within the local workforce investment systems; use of a youth offender and gang prevention advisory board to achieve coordination; establishment of creative partnerships with local community grassroots organizations which provide services to the target population (15 points);

• Plan to fulfill reporting requirements (5 points); and

• Confirmation of cooperation with DOL evaluators (5 points).

Signed at Washington, D.C. this date, December 11, 2000.
Laura A. Cesario,
Grant Officer, Division of Federal Assistance.

Appendices

Appendix A: Application Face Sheet

Appendix B: SF-424—Application for Federal Assistance

Appendix C: Budget Information Form

BILLING CODE 4510-30-P

[FR Doc. 00-32018 Filed 12-15-00; 8:45 am]

BILLING CODE 4510-30-C